NATIONAL AERONAUTICS AND SPACE ADMINISTRATION

[Notice: 23-108]

Heliophysics Advisory Committee; Meeting

AGENCY: National Aeronautics and Space Administration.

ACTION: Notice of meeting.

SUMMARY: In accordance with the Federal Advisory Committee Act, the National Aeronautics and Space Administration (NASA) announces a meeting of the Heliophysics Advisory Committee (HPAC). This Committee functions in an advisory capacity to the Director, Heliophysics Division, in the NASA Science Mission Directorate. The meeting will be held for the purpose of soliciting, from the science community and other persons, scientific and technical information relevant to program planning.

DATES: Tuesday, November 14, 2023, 10 a.m.-5 p.m.; Wednesday, November 15, 2023, 9:30 a.m.-5 p.m.; and Thursday, November 16, 2023, 9:30 a.m.-12 p.m. All times are Eastern Time.

FOR FURTHER INFORMATION CONTACT: Ms. KarShelia Kinard, Science Mission Directorate, NASA Headquarters, Washington, DC 20546, (202) 358-2355 or karshelia.kinard@nasa.gov.

SUPPLEMENTARY INFORMATION: This meeting will be virtual. The meeting will take place telephonically and via WebEx. Any interested person must use a touch-tone phone to participate in this meeting. To join by telephone, the numbers are: 1-929-251-9612 or 1-415-527-5035, for each day.

The WebEx link is https://nasaenterprise.webex.com/nasaenterprise/j.php?MTID=m2c166394b3bdd893949b1a410ce31f40 and the meeting number is 2764 871 5032. The password is pA6QJxWv@83 (72675998 from phones and video systems) (case sensitive), for each day.

The agenda for the meeting includes the following topics:

• Heliophysics Program Annual Performance Review According to the Government Performance and Results Act Modernization Act

• Heliophysics Division Update

It is imperative that the meeting be held on these dates to accommodate the scheduling priorities of the key participants.

Patricia Rausch,
Advisory Committee Management Officer, National Aeronautics and Space Administration.

[FR Doc. 2023-23689 Filed 10-26-23; 8:45 am]

BILLING CODE 7510-13-P